DEPARTMENT OF LABOR

Employment and Training Administration

Notice of a Change in Status of an Extended Benefit (EB) Period for Delaware and Minnesota

AGENCY: Employment and Training Administration, Labor.

ACTION: Notice.

SUMMARY: This notice announces a change in benefit period eligibility under the EB program for Delaware and Minnesota.

The following changes have occurred since the publication of the last notice regarding State EB status:

• Based on data released by the Bureau of Labor Statistics on December 20, 2011, the estimated three month average, seasonally adjusted total unemployment rate for Minnesota fell to 6.4%, and their third year look-back fell to 108%. These two factors trigger Minnesota “off” the EB program with the week ending December 24, 2011, and the end of the payable period in Minnesota in the EB program will be January 14, 2012.

• Based on data released by the Bureau of Labor Statistics on December 20, 2011, the estimated three month average, seasonally adjusted total unemployment rate for Delaware fell to 7.9%, below the rate required to remain in a high unemployment period (HUP). Claimants will remain eligible for up to 20 weeks of benefits in Delaware through January 14, 2012, but starting January 15, 2012, the maximum potential entitlement in the EB program in Delaware will decrease from 20 weeks to 13 weeks.

The trigger notice covering state eligibility for the EB program can be found at: http://ows.doleta.gov/unemploy/claims_arch.asp.

Information for Claimants

The duration of benefits payable in the EB program, and the terms and conditions on which they are payable, are governed by the Federal-State Extended Unemployment Compensation Act of 1970, as amended, and the operating instructions issued to the states by the U.S. Department of Labor. In the case of a state concluding an EB period, the State Workforce Agency will furnish a written notice of potential entitlement to each individual who has exhausted all rights to regular benefits and is potentially eligible for EB (20 CFR 615.13 (c) (4)).

Persons who believe they may be entitled to EB, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 9th day of January, 2012.
Jane Oates,
Assistant Secretary, Employment and Training Administration.

[FR Doc. 2012-591 Filed 1-12-12; 8:45 am]

BILLING CODE 4510-FW-P